DEPARTMENT OF TRANSPORTATION

Federal Aviation Administration

14 CFR Part 39

[Docket No. FAA-2007-28228; Directorate Identifier 2006-SW-08-AD]

RIN 2120-AA64

Airworthiness Directives; Eurocopter France Model EC130 B4 Helicopters

AGENCY: Federal Aviation Administration, DOT.

ACTION: Notice of proposed rulemaking (NPRM).

SUMMARY: This amendment proposes adopting a new airworthiness directive (AD) for Eurocopter France (ECF) Model EC130 B4 helicopters. This proposal would require, within 100 hours time-in-service (TIS), modifying and testing the wiring of the battery overheat sensing circuit. This proposal is prompted by a malfunction in the battery overheat sensing circuit found during a scheduled inspection. The actions specified by this proposed AD are intended to correct the connection of the thermal switch to the cockpit indicator light, to notify the flight crew of an overheated battery, and to prevent a thermal runaway of the battery, an in-flight fire, and subsequent loss of control of the helicopter.

DATES: Comments must be received on or before July 20, 2007.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from American Eurocopter Corporation, 2701 Forum Drive, Grand Prairie, Texas 75053-4005, telephone (972) 641-3460, fax (972) 641-3527.

You may examine the comments to this proposed AD in the AD docket on the Internet at http://dms.dot.gov.

FOR FURTHER INFORMATION CONTACT: Gary Middleton, Aviation Safety Engineer, FAA, Rotorcraft Directorate, Regulations and Policy Group, Fort Worth, Texas 76193-0111, telephone (817) 222-5197, fax (817) 222-5961.

SUPPLEMENTARY INFORMATION:

Comments Invited

We invite you to submit any written data, views, or arguments regarding this proposed AD. Send your comments to the address listed under the caption ADDRESSES. Include the docket number “FAA-2007-28228, Directorate Identifier 2006-SW-08-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation Nassif Building in Room PL-401 at 400 Seventh Street, SW., Washington, DC. Comments will be available in the AD docket shortly after the DMS receives them.

Discussion

The Direction Generale De L'Aviation Civile (DGAC), the airworthiness authority for France, notified the FAA that an unsafe condition may exist on ECF Model EC130 B4 helicopters. The DGAC advises that a malfunction of the battery overheat sensing function, due to incorrect wiring of the battery overheat sensing circuit, was found during a scheduled maintenance. The DGAC also advises that failure of the battery overheat sensing function to operate could give rise to a fire in the event of thermal runaway of the battery.

ECF has issued Alert Telex No. 24A001, dated December 20, 2005 (AT). The AT specifies modifying and testing the battery overheat sensing circuit (MOD 073572) for batteries located in the right-hand side baggage compartment (not modified per OP-3685 or 073739) and for batteries in the tailboom (modified per OP-3685 or 073739). The DGAC classified this AT as mandatory and issued AD No. F-2006-010, dated January 4, 2006, to ensure the continued airworthiness of these helicopters in France.

This helicopter model is manufactured in France and is type certificated for operation in the United States under the provisions of 14 CFR 21.29 and the applicable bilateral agreement. Pursuant to the applicable bilateral agreement, the DGAC has kept us informed of the situation described above. We have examined the findings of the DGAC, reviewed all available information, and determined that AD action is necessary for products of this type design that are certificated for operation in the United States.

This previously described unsafe condition is likely to exist or develop on other helicopters of the same type design registered in the United States. Therefore, the proposed AD would require, within 100 hours TIS, modifying and testing the wiring of the battery overheat sensing circuit. The actions of this AD would be required to be accomplished by following the specified portions of the alert telex described previously.

We estimate that this proposed AD would affect 68 helicopters of U.S. registry. Modifying and testing the overheat sensing circuit wiring would take about 1 work hour per helicopter at an average labor rate of $80 per work hour. Based on these figures, we estimate the total cost impact of the proposed AD on U.S. operators to be $5440.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2007-28228; Directorate Identifier 2006-SW-08-AD.

Applicability: Model EC130 B4 helicopters not modified per MOD 073572, with the battery in either the right-hand baggage compartment or the tailboom, certificated in any category.

Compliance: Required within 110 hours time-in-service, unless accomplished previously.

To correct the connection of the thermal switch to the cockpit indicator light, to notify the flight crew of an overheated battery, and to prevent a thermal runaway of the battery, an in-flight fire, and subsequent loss of control of the helicopter, do the following:

(a) Modify the wiring of the battery overheat sensing circuit and test the battery overheat sensing indicator light by following the Accomplishment Instructions, paragraph 2.B.1. or 2.B.2., depending on the location of the battery, of Eurocopter Alert Telex No. 24A001, dated December 20, 2005.

(b) Modifying and testing the battery overheat sensing circuit by following paragraph (a) of this AD is terminating action for the requirements of this AD.

(c) To request a different method of compliance or a different compliance time for this AD, follow the procedures in 14 CFR 39.19. Contact the Manager, Rotorcraft Directorate, FAA, ATTN: Gary Middleton, Aviation Safety Engineer, Regulations and Policy Group, Fort Worth, Texas 76193-0111, telephone (817) 222-5197, fax (817) 222-5961, for information about previously approved alternative methods of compliance.

Note: The subject of this AD is addressed in Direction Generale De L'Aviation Civile (France) AD No. F-2006-010, dated January 4, 2006.

Issued in Fort Worth, Texas, on May 1, 2007.
Scott A. Horn,
Acting Manager, Rotorcraft Directorate, Aircraft Certification Service.

[FR Doc. E7-9695 Filed 5-18-07; 8:45 am]

BILLING CODE 4910-13-P